ENVIRONMENTAL PROTECTION AGENCY

40 CFR Part 52

[EPA-R06-OAR-2013-0167; FRL-9965-62-Region 6]

Approval and Promulgation of Implementation Plans; Louisiana; Volatile Organic Compounds Rule Revision and Stage II Vapor Recovery

AGENCY: Environmental Protection Agency (EPA).

ACTION: Final rule.

SUMMARY: Pursuant to the Federal Clean Air Act (CAA or the Act), the Environmental Protection Agency (EPA) is approving revisions submitted by the State of Louisiana controlling emissions of volatile organic compounds (VOCs) and changes to the Stage II gasoline vapor recovery rule as part of the Louisiana State Implementation Plan (SIP).

DATES: This rule is effective on September 28, 2017.

ADDRESSES: The EPA has established a docket for this action under Docket ID No. EPA-R06-OAR-2013-0167. All documents in the docket are listed on the http://www.regulations.gov Web site. Although listed in the index, some information is not publicly available, e.g., Confidential Business Information or other information whose disclosure is restricted by statute. Certain other material, such as copyrighted material, is not placed on the Internet and will be publicly available only in hard copy form. Publicly available docket materials are available either electronically through http://www.regulations.gov or in hard copy at the EPA Region 6, 1445 Ross Avenue, Suite 700, Dallas, Texas 75202-2733.

FOR FURTHER INFORMATION CONTACT: Wendy Jacques, (214) 665-7395, jacques.wendy@epa.gov.

SUPPLEMENTARY INFORMATION: Throughout this document “we,” “us,” and “our” means the EPA.

I. Background

The background for this action is discussed in detail in our March 23, 2017, proposal (82 FR 14845). In that document we proposed to approve revisions submitted by the State of Louisiana controlling emissions of volatile organic compounds (VOCs) and changes to the Stage II gasoline vapor recovery rule as part of the Louisiana State Implementation Plan (SIP).

We received comments on the proposal. Our response to the comments are below.

II. Response to Comments

Comment: We received three comments opposing our SIP revision. The commenters expressed concerns that our approval would make air quality worse.

Response: As discussed in our proposal and technical support document we do not believe our approval would worsen air quality. Under CAA section 110(l) we can approve a SIP revision if it would not interfere with any applicable requirement concerning attainment and reasonable further progress or any other applicable requirement under the CAA.

Consequently, the SIP-approved Stage II vapor recovery programs cannot be revised or removed unless it is demonstrated that revision or removal of such program from the SIP would not interfere with any applicable requirement under the CAA. While Louisiana's submittal is not requesting the withdrawal of its Stage II rule for these parishes, this SIP revision is requesting revisions to Louisiana's Stage II requirements, and thus this revision must be shown to satisfy 110(l) of the CAA. We evaluated the SIP revision and found that it satisfies 110(l) of the CAA.

Stage II refers to vapor recovery systems on gasoline dispensing equipment for the control of emissions during the refueling of vehicles. This SIP revision provides an exemption to gasoline dispensing systems that service solely vehicles equipped with onboard refueling vapor recovery (ORVR) and is approvable because this is an equivalent vapor recovery system. In order for a system to meet ORVR requirements, the systems must demonstrate a 95 percent or greater VOC control efficiency, equivalent to the control achieved by a Stage II system; thus, there will be no increase in emissions as a result of this SIP revision. During the phase-in of ORVR controls, which began in 1997, Stage II vapor recovery has provided VOC reductions in ozone nonattainment areas and certain attainment areas of the OTR. As more vehicles equipped with ORVR became part of the fleet, Congress recognized that Stage II would eventually become a largely redundant technology, and provided authority to the EPA to allow States to substitute Stage II with ORVR in their SIPs after EPA finds that ORVR is in widespread use in the applicable area. EPA made the determination on May 16, 2012 that there was widespread use throughout the country (77 FR 28772). A detailed discussion of this guidance and the 110(l) demonstration is provided in the TSD. A copy of this memo is included in the docket.

Comment: EPA should not be repealed (sic) or defunded.

Response: The subject matter of this rulemaking is the control of volatile organic compounds (VOCs) emissions and changes to the Stage II gasoline vapor recovery rule as part of the Louisiana State Implementation Plan (SIP). The funding of EPA is outside the scope of this rulemaking.

III. Final Action

We are approving, into the Louisiana SIP, rule revisions to Louisiana Administrative Code Title 33 Environmental Quality Part III, chapters 1, 21, 22 and 25 in the 2008-2010 VOC Rule revisions submittal and chapter 21 in the 2011-2013 Permit Rule revisions submittal.

IV. Incorporation by Reference

In this rule, we are finalizing regulatory text that includes incorporation by reference. In accordance with the requirements of 1 CFR 51.5, we are finalizing the incorporation by reference of the revisions to the Louisiana regulations as described in the Final Action section above. We have made, and will continue to make, these documents generally available electronically through www.regulations.gov and/or in hard copy at the EPA Region 6 office.

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because this action does not involve technical standards; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 30, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: August 17, 2017.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart T—Louisiana

2. In § 52.970(c), the table titled “EPA Approved Regulations in the Louisiana SIP” is amended by:

a. Revising the entry for Section 111 and the entries under Chapter 7.

b. Removing the entries for Sections 919-919.A.6, 919.B.1, 919.B.2-919.B.5.g.v, 919.C, and 919.D.-F.

c. Adding entries in sequential order for Sections 1101, 1109, and 2103.

d. Removing the entries for Sections 2103.A-2103.B, 2103.C-2103.D.4, 2103.D.4.a, 2103.D.4.b.-2103.D.4.d, 2103.G.1-2103.G.2, 2103.G.3-2103.G.5, 2103.H.2.a.-d, 2103.H.3, 2103.I.6, 2103.I.7, 2107.E.1.-2, 2108.A, 2108.C.2.-2108.C.3, 2108.D.4, 2108.E.1.a.i.-ii. and E.1.b, 2108.E.2, 2108.E.3. and E.5, and 2108.F.1.

e. Adding entries in sequential order for Sections 2017 and 2018.

f. Revising the entry for Section 2121.A; the entry for Subchapter C of Chapter 21; the entries under Subchapters F, I, and J of Chapter 21; the entries under Chapter 22; and the entry for Chapter 25.

The revisions and additions read as follows:

§ 52.970 Identification of plan.

* * * * *

(c) * * *

EPA-Approved Louisiana Regulations in the Louisiana SIP
State citation | Title/subject | State approval date | EPA approval date | Comments
* * * * * * *
Chapter 1—General Provisions
* * * * * * *
Section 111 | Definitions | 1/20/2008 | 8/29/2017, [Insert Federal Register citation] |
* * * * * * *
Chapter 7—Ambient Air Quality
Section 701 | Purpose | 03/20/08 | 01/28/16, 81 FR 4891 |
Section 703 | Scope | 03/20/08 | 01/28/16, 81 FR 4891 |
Section 705 | Standards: Description of Ambient Air Quality Standards | Dec. 1987, LR13:741 | 03/08/89, 54 FR 09795 | Ref 52.999(c)(49).
Section 707 | Degradation of Ambient Air Having Higher Quality than Set Forth in these Sections Restricted | Dec. 1987, LR13:741 | 03/08/89, 54 FR 09795 | Ref 52.999(c)(49).
Section 709 | Measurement of Concentrations PM10, SO2, CO, Atmospheric Oxidants, NOX, and Pb | 9/20/2006 | 7/05/2011, 76 FR 38977 | Ref 52.999(c)(50).
Section 711 | Tables 1, 1a, and 2—Air Quality | 9/20/2006 | 7/05/2011, 76 FR 38977 | PM2.5 and PM10 standards.
* * * * * * *
Chapter 11—Control of Emissions From Smoke
Section 1101 | Control of Air Pollution from Smoke: Purpose and Control of Smoke | Dec. 1987, LR13:741 | 03/08/89, 54 FR 09795 | Ref 52.999(c)(49).
* * * * * * *
Section 1109 | Stack Heights | Dec. 1987, LR13:741 | 03/08/89, 54 FR 09795 | Ref 52.999(c)(49).
* * * * * * *
Chapter 21—Control of Emissions of Organic Compounds
* * * * * * *
Section 2103 | Storage of Volatile Organic Compounds | 10/20/2010 | 8/29/2017, [Insert Federal Register citation] | 2103.E.3 is not included in the SIP.
* * * * * * *
Section 2107 | Volatile Organic Compounds—Loading | 9/20/2008 | 8/29/2017, [Insert Federal Register citation] | E.1.b., E.1.d. and E.1.e. have not been submitted for approval into the SIP.
Section 2108 | Marine Vapor Recovery | 9/20/2008 | 8/29/2017, [Insert Federal Register citation] |
* * * * * * *
Section 2121.A | Fugitive Emission Control | 1/20/2008 | 8/29/2017, [Insert Federal Register citation] |
* * * * * * *
Subchapter C Solvent Degreasers
Section 2125 | Solvent Degreasers | 1/20/2008 | 8/29/2017, [Insert Federal Register citation] |
* * * * * * *
Subchapter F Gasoline Handling
Section 2131 | Filling of Gasoline Storage Vessels | 7/20/2010 | 8/29/2017, [Insert Federal Register citation] |
Section 2132 | Stage II Vapor Recovery Systems for Control of Vehicle Refueling Emissions at Gasoline Dispensing Facilities | 4/20/2011 | 8/29/2017, [Insert Federal Register citation] | This rule is approved for fueling/refueling of only 100% ORVR vehicles.
* * * * * * *
Subchapter I Pharmaceutical Manufacturing Facilities
Section 2145 | Pharmaceutical Manufacturing Facilities | 1/20/2008 | 8/29/2017, [Insert Federal Register citation] |
Subchapter J Limiting Volatile Organic Compound (VOC) Emissions From Reactor Processes and Distillation Operations in the Synthetic Organic Chemical Manufacturing Industry (SOCMI)
Section 2147 | Limiting VOC Emissions from SOCMI Reactor Processes and Distillation Operations | 1/20/2008 | 8/29/2017, [Insert Federal Register citation] |
* * * * * * *
Chapter 22—Control of Emissions of Nitrogen Oxides (NOX)
Section 2201 | Affected Facilities in the Baton Rouge Nonattainment Area and the Region of Influence | 1/20/2008 | 8/29/2017, [Insert Federal Register citation] |
Section 2202 | Contingency Plan | 1/20/2010 | 11/30/11, 76 FR 74000 | Section 2202 approved in the Louisiana Register January 20, 2010 (LR 36:63).
* * * * * * *
Chapter 25—Miscellaneous Incinerator Rules
Section 2511 | Standards of Performance for Biomedical Waste Incinerators | 1/20/2008 | 8/29/2017, [Insert Federal Register citation] |
Section 2521 | Refuse Incinerators | 1/20/2008 | 8/29/2017, [Insert Federal Register citation] |
Section 2531 | Standards of Performance for Crematories | 1/20/2008 | 8/29/2017, [Insert Federal Register citation] |
* * * * * * *

* * * * *

[FR Doc. 2017-17844 Filed 8-28-17; 8:45 am]

BILLING CODE 6560-50-P